DEPARTMENT OF THE TREASURY

Office of Thrift Supervision

FEDERAL RESERVE SYSTEM

Agency Information Collection Activities: Discontinuance

AGENCIES: Office of Thrift Supervision (OTS), Treasury; and Board of Governors of the Federal Reserve System (Board).

ACTION: Discontinuance of information collections.

SUMMARY: Notice is hereby given of the discontinuance by the Board and the OTS (collectively, the “agencies”) of the following information collections, the Annual Report of Trust Assets (FFIEC 001) and the Annual Report of International Fiduciary Activities (FFIEC 006), effective with the December 31, 2001 report. In accordance with the requirements of the Paperwork Reduction Act of 1995 (44 U.S.C. chapter 35), the Board and the OTS (collectively, the “agencies”) may not conduct or sponsor, and the respondent is not required to respond to, an information collection unless it displays a currently valid OMB control number.

On October 12, 2001, the agencies, under the auspices of the Federal Financial Institutions Examination Council (FFIEC), published a notice in the Federal Register (66 FR 52186) requesting public comment on the discontinuance of the (FFIEC 001 and FFIEC 006) reports. The comment period for this notice expired on December 11, 2001. No comments were received. The agencies are now submitting requests to OMB for approval of the discontinuance of the (FFIEC 001 and FFIEC 006) reports.

DATES: Comments must be submitted on or before February 27, 2002.

ADDRESSES: Interested parties are invited to submit written comments to either or both of the agencies. All comments should refer to the OMB control number(s) and will be shared between the agencies.

OTS: Submit any written comments concerning this notice to Information Collection Comments, Chief Counsel's Office, Office of Thrift Supervision, 1700 G Street, N.W., Washington, D.C. 20552, Attention: 1550-0026, FAX Number (202) 906-6518, or e-mail to infocollection.comments@ots.treas.gov. OTS will post any comments and the related index on the OTS Internet Site at www.ots.treas.gov. In addition, interested persons may inspect comments at the Public Reference Room, 1700 G Street, NW, by appointment. To make an appointment, call (202) 906-5922, send an e-mail to publicinfo@ots.treas.gov, or send a facsimile transmission to (202) 906-7755.

Board: Comments may be mailed to Ms. Jennifer J. Johnson, Secretary, Board of Governors of the Federal Reserve System, 20th Street and Constitution Avenue, NW., Washington, DC 20551. However, because paper mail in the Washington area and at the Board of Governors is subject to delay, please consider submitting your comments by e-mail to regs.comments@federalreserve.gov, or faxing them to the Office of the Secretary at 202-452-3819 or 202-452-3102. Comments addressed to Ms. Johnson may also be delivered to the Board's mail facility in the West Courtyard between 8:45 a.m. and 5:15 p.m., located on 21st Street between Constitution Avenue and C Street, N.W. Members of the public may inspect comments in Room MP-500 between 9:00 a.m. and 5:00 p.m. on weekdays pursuant to § 261.12, except as provided in § 261.14, of the Board's Rules Regarding Availability of Information, 12 CFR 261.12 and 261.14.

A copy of the comments may also be submitted to the OMB desk officer for the agencies: Alexander T. Hunt, Office of Information and Regulatory Affairs, Office of Management and Budget, New Executive Office Building, Room 3208, Washington, DC 20503 or by e-mail to ahunt@omb.eop.gov.

FOR FURTHER INFORMATION CONTACT: Additional information or a copy of the collections may be requested from:

OTS: Sally W. Watts, OTS Clearance Officer, (202) 906-7380, Office of Thrift Supervision, 1700 G Street, NW., Washington, DC 20552; e-mail address sally.watts@ots.treas.gov.

Board: Mary M. West, Federal Reserve Board Clearance Officer, (202) 452-3829, Division of Research and Statistics, Board of Governors of the Federal Reserve System, 20th and C Streets, NW., Washington, DC 20551. Users of Telecommunications Device for the Deaf (TDD) may contact (202) 263-4869.

SUPPLEMENTARY INFORMATION:

Discontinuation of the following reports:

Report Titles: Annual Report of Trust Assets and Annual Report of International Fiduciary Activities.

Form Numbers: FFIEC 001 and FFIEC 006.

Frequency of Response: Annual.

Affected Public: Business or other for profit.

For OTS:

OMB Number: 1550-0026.

Number of Respondents: 101 (FFIEC 001).

Estimated Average Time per Response: 4.08 burden hours (FFIEC 001).

Estimated Total Annual Burden: 412 burden hours.

For Board:

OMB Number: 7100-0031.

Number of Respondents: 22 (FFIEC 001), 0 (FFIEC 006).

Estimated Average Time per Response: 3.82 burden hours (FFIEC 001). 4.0 burden hours (FFIEC 006).

Estimated Total Annual Burden: 84 burden hours.

General Description of Reports: This information collection (FFIEC 001 and FFIEC 006) is mandatory: 12 U.S.C. 1464 (for thrift institutions), and 12 U.S.C. 248(a)(1) and (2) and 1844(c) (for state member banks and bank holding companies). The data on the FFIEC 001 are publicly available with the exception of Schedule E—Fiduciary Income Statement. The FFIEC 006, collected by the Board, is given confidential treatment [5 U.S.C. 552(b)(8)]. Small businesses (i.e., small banks) are affected.

Abstract: These interagency reports collect information on fiduciary asset totals and activities. They are used to monitor changes in the volume and character of discretionary trust activity and the volume of nondiscretionary trust activity and to determine resource needs for supervisory purposes.

Current Actions: Financial institutions that exercise fiduciary powers and have fiduciary assets or accounts have reported information on their trust activities each December 31 in the Annual Report of Trust Assets (FFIEC 001). Institutions with trust operations in foreign offices also complete the Annual Report of International Fiduciary Activities (FFIEC 006). The agencies will discontinue the FFIEC 001 and the FFIEC 006 trust activities reports.

This discontinuance is prompted by the introduction of Schedule RC-T, “Fiduciary and Related Services,” on the quarterly bank Consolidated Reports of Condition and Income (Call Report) (FFIEC 031 and 041, OMB No. 7100-0036),¹ and Schedule T, “Fiduciary and Related Services” on the quarterly Report of Assets and Liabilities of U.S. Branches and Agencies of Foreign Banks (FFIEC 002, OMB No. 7100-0032).² Schedules RC-T and T take effect as of December 31, 2001. The OTS is adding Schedule FS—Fiduciary and Related Services to the Thrift Financial Report (OMB No. 1550-0023) effective March 31, 2002.

¹ Federal Register, March 5, 2001 (66 FR 13369).

² Federal Register, May 4, 2001 (66 FR 22556).

The new trust schedule replaces the Annual Report of Trust Assets (FFIEC 001) in December 2001 for institutions that file Call Reports and the FFIEC 002 and in March 2002 for institutions that file Thrift Financial Reports. For national and state member banks, two items in the new schedule will replace the Annual Report of International Fiduciary Activities (FFIEC 006). However, federally supervised state-chartered nondeposit trust companies that are subsidiaries of holding companies do not file Call Reports or Thrift Financial Reports, but were previously required to complete the FFIEC 001. The agencies have determined that the information of supervisory interest on trust activities that these trust companies have reported on the FFIEC 001 can be monitored by other means.

Request for Comment

Comments are invited on:

a. Whether the information collections are necessary for the proper performance of the agencies' functions, including whether the information has practical utility;

b. The accuracy of the agencies' estimates of the burden of the information collections, including the validity of the methodology and assumptions used;

c. Ways to enhance the quality, utility, and clarity of the information to be collected;

d. Ways to minimize the burden of information collections on respondents, including through the use of automated collection techniques or other forms of information technology; and

e. Estimates of capital or start up costs and costs of operation, maintenance, and purchase of services to provide information.

Comments submitted in response to this notice will be shared between the agencies and will be summarized or included in the agencies' requests for OMB approval. All comments will become a matter of public record. Written comments should address the accuracy of the burden estimates and ways to minimize burden including the use of automated collection techniques or the use of other forms of information technology as well as other relevant aspects of the information collection request.

Dated: January 18, 2002.
Deborah Dakin,
Deputy Chief Counsel, Regulations & Legislation Division, Office of Thrift Supervision.
Board of Governors of the Federal Reserve System, January 23, 2002.
Jennifer J. Johnson,
Secretary of the Board.

[FR Doc. 02-1988 Filed 1-25-02; 8:45 am]

BILLING CODE 6720-01-P and 6210-01-P